DEPARTMENT OF THE INTERIOR

Bureau of Land Management

[LLWO230.11100000.PH0000]

Notice of Intent To Prepare Environmental Impact Statements and Supplemental Environmental Impact Statements To Incorporate Greater Sage-Grouse Conservation Measures Into Land Use Plans and Land Management Plans

AGENCY: Bureau of Land Management, Interior.

ACTION: Notice of Intent.

SUMMARY: In compliance with the National Environmental Policy Act of 1969, as amended (NEPA), the Federal Land Policy and Management Act of 1976, as amended (FLPMA), and the Resources Planning Act of 1974, as amended by the National Forest Management Act 1976 (NFMA), the Bureau of Land Management (BLM) and the Forest Service (FS) intend to prepare Environmental Impact Statements (EIS) and Supplemental EISs, and by this notice are announcing the beginning of the scoping process to solicit public comments and identify issues. The BLM is the lead agency on these EISs and Supplemental EISs and the FS is participating as a cooperating agency.

These EISs/Supplemental EISs will be coordinated under two regions: An Eastern Region and a Western Region. The Eastern Region includes BLM land use plans in the States of Colorado, Wyoming, North Dakota, South Dakota, and portions of Utah and Montana. The Western Region includes BLM land use plans in California, Idaho, Nevada, Oregon, and portions of Utah and Montana. For each of these regions, the FS will include those areas that were identified by the FWS as high priority areas for greater sage-grouse within the NFS units listed below.

DATES: This notice initiates the public scoping process for the EISs/Supplemental EISs. Comments on issues may be submitted in writing until February 7, 2012. The date(s) and location(s) of all scoping meetings will be announced at least 15 days in advance through local media, newspapers and the BLM Web site for the Eastern Region at http://www.blm.gov/wo/st/en/prog/more/sagegrouse/eastern.html, and for the Western Region at http://www.blm.gov/wo/st/en/prog/more/sagegrouse/western.html. In order to be included in the Draft EISs/Supplemental EISs, all scoping comments must be received prior to the close of the scoping period or 15 days after the last public meeting, whichever is later. Comments that are specific to a particular area or land use plan should be identified as such. We will provide additional opportunities for public participation upon publication of the Draft EISs/Supplemental EISs.

ADDRESSES: You may submit comments related to the greater sage-grouse planning effort by any of the following methods:

• Eastern Region

○ Web site: http://www.blm.gov/wo/st/en/prog/more/sagegrouse/eastern.html

○ Email: sageeast@blm.gov

○ Fax: (307) 775-6042

○ Mail: Eastern Region Project Manager, BLM Wyoming State Office, 5353 Yellowstone, Cheyenne, Wyoming 82009

• Western Region

○ Web site: http://www.blm.gov/wo/st/en/prog/more/sagegrouse/western.html

○ Email: sagewest@blm.gov

○ Fax: (775) 861-6747

○ Mail: Western Region Project Manager, BLM Nevada State Office, 1340 Financial Blvd., Reno, Nevada 89502

Documents pertinent to the Eastern Region will be coordinated through the BLM Wyoming State Office. Documents pertinent to the Western Region will be coordinated through the BLM Nevada State Office.

Though BLM and NFS lands in Utah are distributed between the Western and Eastern Regions, all such lands will be addressed in one EIS, or through ongoing plan revision processes. All comments applicable to the Utah EIS should be sent to the Western Region.

FOR FURTHER INFORMATION CONTACT: For further information and/or to have your name added to our mailing list, contact Chuck Otto, Eastern Region Project Manager, telephone (307) 775-6062; address 5353 Yellowstone Road, Cheyenne, Wyoming 82009; email cotto@blm.gov, or: Brian Amme, Western Region Project Manager, telephone (775) 861-6645; address 1340 Financial Boulevard, Reno, Nevada 89520; email bamme@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: In April 2010, the U.S. Fish and Wildlife Service (FWS) published its listing decision for the greater sage-grouse indicating that listing was “Warranted but Precluded” due to higher listing priorities under the Endangered Species Act. The inadequacy of regulatory mechanisms to conserve the greater sage-grouse and its habitat was identified as a significant threat in the FWS finding on the petition to list the greater sage-grouse as a threatened or endangered species. The FWS has identified conservation measures to be included in the respective agencies' land use plans as the principal regulatory mechanisms to assure adequate conservation of the greater sage-grouse and its habitat on public lands. For the BLM, these land use plans are Resource Management Plans (RMP). For the FS, these are Land and Resource Management Plans (LMP). In view of the identified threats to the greater sage-grouse, and the FWS timeline for making a listing decision on this species, the BLM and FS propose to incorporate consistent objectives and conservation measures for the protection of greater sage-grouse and its habitat into relevant RMPs and LMPs by September 2014 in order to avoid a potential listing under the Endangered Species Act. These conservation measures would be incorporated into RMPs and LMPs through the plan amendment and revision processes of the respective agencies. The BLM and FS expect to prepare EISs to analyze proposed amendments to some land use plans that are not currently undergoing amendment or revision. For plans already undergoing amendment or revision, the BLM and FS will consider incorporating conservation measures either through the ongoing amendment or revision processes, or through supplemental environmental analyses as appropriate.

The BLM and FS intend to evaluate the adequacy of sage-grouse conservation measures in RMPs and selected LMPs, and consider conservation measures, as appropriate, in proposed RMP and selected LMP amendments and/or revisions throughout the range of the greater sage-grouse (with the exception of the bi-state population in California and Nevada and the Washington State distinct population segment, which will be addressed through other planning efforts).

The BLM currently expects to evaluate sage-grouse conservation measures in 68 planning areas, and the FS expects to evaluate sage-grouse conservation measures in 9 LMPs. The plans applicable to these planning areas are listed below.

BLM Wyoming has already begun undertaking a programmatic EIS specific to the greater sage-grouse. This programmatic EIS will analyze amendments to all of the State's RMPs not currently being amended or revised to address needed changes to the management and conservation of greater sage-grouse habitats. The ongoing RMP revisions in Wyoming will evaluate conservation measures through existing planning processes.

Below is a list of RMPs and LMPs that the BLM and FS intend to evaluate. Some RMPs/LMPs are already undergoing either revision or amendment. In cases in which an ongoing plan revision or amendment may not be completed by September 2014, the underlying completed RMP is also listed, as it may be amended. FS LMPs are denoted below in parentheses.

Within the Eastern Region, the potentially affected BLM RMPs and FS LMPs include:

• Colorado

○ Colorado River Valley RMP revision

○ Grand Junction RMP revision (and existing 1987 Grand Junction RMP)

○ Kremmling RMP revision

○ Little Snake RMP (2011)

○ White River RMP Oil and Gas amendment

• Montana/Dakotas

○ Billings RMP revision (and existing 1984 Billings RMP)

○ Headwaters RMP (1984)

○ HiLine RMP revision (and existing 1988 West HiLine RMP)

○ Judith, Valley, and Phillips RMP (1992)

○ Miles City RMP revision (and existing 1985 Powder River and 1995 Big Dry RMPs)

○ North Dakota RMP (1988)

○ South Dakota RMP revision (and existing 1986 South Dakota RMP)

○ Upper Missouri River Breaks NM RMP (2008)

• Utah

○ Park City Management Framework Plan (MFP) (1975)

○ Price RMP (2008)

○ Randolph MFP (1980)

○ Salt Lake District Isolated Tracts Planning Analysis (1985)

○ Vernal RMP (2008)

○ Uinta National Forest Revised Forest Plan (2003) (FS)

• Wyoming (please note that BLM Wyoming has already issued a Notice of Intent to begin an EIS that will amend all completed plans to address needed changes in the management and conservation of greater sage-grouse habitat)

○ Bighorn Basin RMP revision

○ Buffalo RMP revision (and existing 1985 Buffalo RMP)

○ Casper RMP (2007)

○ Kemmerer RMP (2010)

○ Lander RMP revision

○ Newcastle RMP (2000)

○ Pinedale RMP (2008)

○ Rawlins RMP (2008)

○ Rock Springs RMP revision (and existing 1997 Green River RMP)

○ Thunder Basin National Grassland LMP (not included in BLM Wyoming Notice of Intent above) (FS)

Within the Western Region, the potentially affected RMPs and LMPs include:

• California

○ Alturas RMP (2008)

○ Eagle Lake RMP (2008)

○ Surprise RMP (2008)

• Idaho

○ Birds of Prey NCA RMP (2008)

○ Bruneau RMP revision (and existing 1983 Bruneau RMP)

○ Challis RMP (1999)

○ Craters of the Moon NM RMP (2006)

○ Four Rivers RMP revision (and existing 1988 Cascade and 1983 Kuna RMPs)

○ Jarbidge RMP revision

○ Lemhi RMP (1987)

○ Owyhee RMP (1999)

○ Pocatello RMP revision

○ Shoshone-Burley RMP revision (and existing 1980 Bennett Hills/Timmerman Hills, 1985 Cassia, 1975 Magic, 1985 Monument, 1981 Sun Valley, and 1982 Twin Falls MFPs/RMPs)

○ Upper Snake RMP revision (and existing 1983 Big Lost, 1985 Medicine Lodge, 1981 Big Desert, and 1981 Little Lost-Birch Creek MFPs/RMPs)

○ Curlew National Grassland Management Plan (2002) (FS)

○ Caribou National Forest Revised Forest Plan (2003) (FS)

○ Sawtooth National Forest Revised Forest Plan (2003) (FS)

• Montana

○ Butte RMP (2009)

○ Dillon RMP (2006)

• Nevada

○ Battle Mountain RMP revision (and existing 1997 Tonopah and 1986 Shoshone-Eureka RMPs)

○ Black Rock Desert NCA RMP (2004)

○ Carson City RMP revision (and existing 2001 Carson City RMP)

○ Elko RMP (1987)

○ Ely RMP (2008)

○ Wells RMP (1985)

○ Winnemucca RMP revision

○ Humboldt National Forest Land and Resource Management Plan (1986) (FS)

○ Toiyabe National Forest Land and Resource Management Plan (1986) (FS)

• Oregon

○ Andrews RMP (2005)

○ Baker RMP revision (and existing 1989 Baker RMP)

○ Brothers-Lapine RMP (1989)

○ John Day RMP revision

○ Lakeview RMP amendment (and existing 2003 Lakeview RMP)

○ Southeastern Oregon RMP amendment (and existing 2003 Southeastern Oregon RMP)

○ Steens RMP (2005)

○ Three Rivers RMP (1992)

○ Two Rivers RMP (1989)

○ Upper Deschutes RMP (2005)

• Utah

○ Box Elder RMP (1986)

○ Cedar City RMP revision (and existing 1983 Pinyon and 1986 Cedar-Beaver-Garfield-Antimony RMPs)

○ Grand Staircase-Escalante NM RMP (1999)

○ House Range RMP (1987)

○ Kanab RMP (2008)

○ Pony Express RMP (1990)

○ Richfield RMP (2008)

○ Warm Springs RMP (1986)

○ Dixie National Forest Land and Resource Management Plan (1986) (FS)

○ Fishlake National Forest Land and Resource Management Plan (1986) (FS)

The purpose of the public scoping process is to determine relevant issues relating to the conservation of the greater sage-grouse and its habitat that will influence the scope of the environmental analysis, including alternatives, and guide the process for developing the EISs/Supplemental EISs.

At present, the BLM has identified the following preliminary issues:

• Greater Sage-grouse Habitat Management

• Fluid Minerals

• Coal Mining

• Hard Rock Mining

• Mineral Materials

• Rights-of-Way (including transmission)

• Renewable Energy Development

• Fire

• Invasive Species

• Grazing

• Off Highway Vehicle Management and Recreation

Preliminary planning criteria include:

• The BLM and FS will utilize the Western Association of Fish and Wildlife Agencies (WAFWA) Conservation Assessment of Greater Sage-grouse and Sagebrush Habitats (Connelly, et al. 2004), and any other appropriate resources, to identify greater sage-grouse habitat requirements and best management practices.

• The approved RMP amendments/revisions will be consistent with the BLM's National Sage-grouse Conservation Strategy.

• The approved RMP amendments/revisions will comply with FLPMA, NEPA, and Council on Environmental Quality regulations at 40 CFR parts 1500-1508 and Department of the Interior regulations at 43 CFR part 46 and 43 CFR part 1600; the BLM H-1601-1 Land Use Planning Handbook, “Appendix C: Program-Specific and Resource-Specific Decision Guidance Requirements” for affected resource programs; the 2008 BLM NEPA Handbook (H-1790-1), and all other applicable BLM policies and guidance.

• The approved LMP amendments/revisions will comply with NFMA, NEPA, Council on Environmental Quality regulations at 40 CFR parts 1500-1508, Regulations of the Secretary of Agriculture at 36 CFR part 219 and FSM 1920 and FSH 1909.12.

• The RMP and LMP amendments/revisions will be limited to making land use planning decisions specific to the conservation of greater sage-grouse habitats.

• The BLM and FS will consider allocative and/or prescriptive standards to conserve greater sage-grouse habitat, as well as objectives and management actions to restore, enhance, and improve greater sage-grouse habitat.

• The RMP and LMP amendments/revisions will recognize valid existing rights.

• Lands addressed in the RMP and LMP amendments/revisions will be public lands (including surface-estate split estate lands) managed by the BLM, and National Forest System lands, respectively, in greater sage-grouse habitats. Any decisions in the RMP and LMP amendments/revisions will apply only to Federal lands administered by either the BLM or the FS.

• The BLM and FS will use a collaborative and multi-jurisdictional approach, where appropriate, to determine the desired future condition of public lands and National Forest System lands for the conservation of greater sage-grouse and their habitats.

• As described by law and policy, the BLM and FS will strive to ensure that conservation measures are as consistent as possible with other planning jurisdictions within the planning area boundaries.

• The BLM and FS will consider a range of reasonable alternatives, including appropriate management prescriptions that focus on the relative values of resources while contributing to the conservation of the greater sage-grouse and sage-grouse habitat.

• The BLM and FS will address socioeconomic impacts of the alternatives. Socio-economic analysis will use an accepted input-output quantitative model such as IMPLAN or RIMSII, and/or JEDI for renewable energy analysis.

• The BLM and FS will endeavor to use current scientific information, research, technologies, and results of inventory, monitoring, and coordination to determine appropriate local and regional management strategies that will enhance or restore greater sage-grouse habitats.

• Management of greater sage-grouse habitat that intersects with Wilderness Study Areas (WSAs) on Public lands administered by the BLM will be guided by the Interim Management Policy for Lands Under Wilderness Review (IMP). Land use allocations made for WSAs must be consistent with the IMP and with other laws, regulations, and policies related to WSA management.

• For BLM-administered lands, all activities and uses within greater sage-grouse habitats will follow existing land health standards. Standards and guidelines (S&G) for livestock grazing and other programs that have developed S&Gs will be applicable to all alternatives for BLM lands.

• The BLM and FS will consult with Indian tribes to identify sites, areas, and objects important to their cultural and religious heritage within greater sage-grouse habitats.

• The BLM and FS will coordinate and communicate with State, local, and tribal governments to ensure that the BLM and FS consider provisions of pertinent plans, seek to resolve inconsistencies between State, local, and tribal plans, and provide ample opportunities for state, local, and tribal governments to comment on the development of amendments or revisions.

• The BLM and FS will develop vegetation management objectives, including objectives for managing noxious weeds and invasive species (including identification of desired future condition for specific areas), within greater sage-grouse habitat.

• The RMP and LMP amendments/revisions will be based on the principles of Adaptive Management.

• Reasonable Foreseeable Development Scenarios and planning for Fluid Minerals will follow the BLM Handbook H-1624-1 and current fluid minerals manual guidance for fluid mineral (oil and gas, coal-bed methane, oil shale) and geothermal resources. For NFS lands, the FS will use applicable and relevant policy and procedures.

• The RMP and LMP amendments/revisions will be developed using an interdisciplinary approach to prepare reasonable foreseeable development scenarios, identify alternatives, and analyze resource impacts, including cumulative impacts to natural and cultural resources and the social and economic environment.

• The most current approved BLM and FS corporate spatial data will be supported by current metadata and will be used to ascertain greater sage-grouse habitat extent and quality. Data will be consistent with the principles of the Information Quality Act of 2000.

• State Game and Fish agencies' greater sage-grouse data and expertise will be utilized to the fullest extent practicable in making management determinations on Federal lands.

The BLM and FS will utilize and coordinate the NEPA commenting process to help fulfill the public involvement process under Section 106 of the National Historic Preservation Act (16 U.S.C. 470f), if applicable, as provided for in 36 CFR 800.2(d)(3). Native American tribal consultations will be conducted in accordance with policy, and tribal concerns will be given due consideration, including impacts on Indian trust assets. Federal, State, and local agencies, along with other stakeholders that may be interested or affected by the BLM's or FS's decision on this proposal are invited to participate in the scoping process and, if eligible, may request or be requested by the BLM to participate as a cooperating agency. The public is also invited to nominate or recommend areas on public lands for greater sage-grouse and their habitat to be considered as Areas of Critical Environmental Concern as a part of this planning process (BLM Manual 1613.3.31). Parties interested in leasing and development of Federal coal in the planning area should provide coal resource data for their area(s) of interest. Specifically, information is requested on the location, quality, and quantity of Federal coal with development potential, and on surface resource values related to the 20 coal unsuitability criteria described in 43 CFR part 3461. This information will be used for any necessary updating of coal screening determinations (43 CFR 3420.1-4) in the Decision Area and in the environmental analysis.

Before including your address, phone number, email address, or other personal identifying information in your comment, you should be aware that your entire comment—including your personal identifying information—may be made publicly available at any time. While you can ask us in your comment to withhold your personal identifying information from public review, we cannot guarantee that we will be able to do so.

Authority: 40 CFR 1501.7, 43 CFR 1610.2.

Edwin Roberson,
Assistant Director, Renewable Resources and Planning.

[FR Doc. 2011-31652 Filed 12-8-11; 8:45 am]

BILLING CODE 4310-84-P